ENVIRONMENTAL PROTECTION AGENCY

[FRL-11565-01-OA]

Local Government Advisory Committee (LGAC) and Small Communities Advisory Subcommittee (SCAS); Meeting

AGENCY: Environmental Protection Agency (EPA).

ACTION: Notification of public meeting.

SUMMARY: Pursuant to the Federal Advisory Committee Act (FACA), the EPA hereby provides notice of a meeting for the Local Government Advisory Committee (LGAC) and its Small Communities Advisory Subcommittee (SCAS) on the date and time described below. This meeting will be open to the public. For information on public attendance and participation, please see registration details under SUPPLEMENTARY INFORMATION.

DATES: The LGAC and SCAS will have a virtual meeting on December 15th, 2023, from 1:00 to 2:00 p.m. Eastern Standard Time.

FOR FURTHER INFORMATION CONTACT: Paige Lieberman, Designated Federal Officer (DFO) of the Local Government Advisory Committee, at LGAC@epa.gov or 202-564-9957 or Lynzi Barnes, DFO of the Small Community Advisory Subcommittee, at barnes.edlynzia@epa.gov or (773) 638-9158.

Information on Accessibility: For information on access or services for individuals requiring accessibility accommodations, please contact Paige Lieberman by email at LGAC@epa.gov. To request accommodation, please do so five (5) business days prior to the meeting, to give EPA as much time as possible to process your request.

SUPPLEMENTARY INFORMATION:

Content

The LGAC and SCAS will discuss recommendations from the environmental justice and equity workgroup that involves a cumulative impacts framework. Meeting materials and recommendations will be posted closer to the meeting.

Registration

The meeting will be held virtually via Microsoft Teams. Members of the public who wish to participate should register by contacting the Designated Federal Officer (DFO) at LGAC@epa.gov by December 8th, 2023. Once available, the agenda and other supportive meeting materials will be available online at https://www.epa.gov/ocir/local-government-advisory-committee-lgac and will be emailed to all registered. In the event of cancellation for unforeseen circumstances, please contact the DFO or check the website above for reschedule information.

Paige Lieberman,
Designated Federal Officer, U.S. Environmental Protection Agency.

[FR Doc. 2023-26000 Filed 11-24-23; 8:45 am]

BILLING CODE 6560-50-P